ENVIRONMENTAL PROTECTION AGENCY

[EPA-HQ-OPP-2019-0039; FRL-9992-38]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before June 20, 2019.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

III. New Active Ingredients

1. File Symbol: 279-GAGI. Docket ID number: EPA-HQ-OPP-2018-0551. Applicant: FMC Corporation, 2929 Market Street, Philadelphia, PA 19104. Product name: F9990. Active ingredient: Fungicide—fluindapyr at 98%. Proposed use: Cereal grains except rice (Crop Group 15); small vine climbing fruit except fuzzy kiwifruit (Subgroup 13-07F); soybean; tree nuts (Crop Group 14-12); turf and ornamental sites in residential, commercial, and institutional lawns and landscapes; golf courses; sod farms; utility right-of-ways; roadsides; railways; industrial areas; and container and field grown ornamentals. Contact: RD.

2. File Symbol: 279-GAGO. Docket ID number: EPA-HQ-OPP-2018-0551. Applicant: FMC Corporation, 2929 Market Street, Philadelphia, PA 19104. Product name: F9944-74 T&O SC Fungicide. Active ingredient: Fungicide—fluindapyr at 42.4%. Proposed use: Turf in home lawns, golf courses, in lawns and landscape areas around public, industrial, and commercial properties; athletic fields; commercial sod farms; ornamental plants in lawns and landscape areas around public, industrial, commercial and residential properties; container and field grown ornamentals; nurseries; ornamentals in greenhouses; interiorscapes; and other enclosed structures. Contact: RD.

3. File Symbol: 279-GAGT. Docket ID number: EPA-HQ-OPP-2018-0551. Applicant: FMC Corporation, 2929 Market Street, Philadelphia, PA 19104. Product name: F9944-74. Active ingredient: Fungicide—fluindapyr at 42.4%. Proposed use: Cereal grains except rice (Crop Group 15), corn (field corn, field corn grown for seed, popcorn, and sweet corn), grain sorghum, wheat, triticale, and barley; small vine climbing fruit except fuzzy kiwifruit (Subgroup 13-07F), grape; soybean; and tree nuts (Crop Group 14-12). Contact: RD.

4. File Symbol: 279-GAUE. Docket ID number: EPA-HQ-OPP-2018-0551. Applicant: FMC Corporation, 2929 Market Street, Philadelphia, PA 19104. Product name: F4412-1. Active ingredient: Fungicide—azoxystrobin at 15.7%, fluindapyr at 10.5%, and flutriafol at 15.7%. Proposed use: Corn (field corn, field corn grown for seed, popcorn, and sweet corn), soybean, grain sorghum, wheat, triticale, and barley. Contact: RD.

5. File Symbol: 279-GAUG. Docket ID number: EPA-HQ-OPP-2018-0551. Applicant: FMC Corporation, 2929 Market Street, Philadelphia, PA 19104. Product name: F4413-1. Active ingredient: Fungicide—fluindapyr at 15.7% and flutriafol at 26.2%. Proposed use: Corn (field corn, field corn grown for seed, popcorn, and sweet corn), soybean, grain sorghum, wheat, triticale, and barley. Contact: RD.

6. File Symbol: 279-GAUN. Docket ID number: EPA-HQ-OPP-2018-0551. Applicant: FMC Corporation, 2929 Market Street, Philadelphia, PA 19104. Product name: F4406-1. Active ingredient: Fungicide—fluindapyr at 20.9% and flutriafol at 20.9%. Proposed use: Grapes (fresh, juice, table, wine, and raisin), almond, walnut, pecan, and hazelnut. Contact: RD.

7. File Symbol: 279-GAUR. Docket ID number: EPA-HQ-OPP-2018-0551. Applicant: FMC Corporation, 2929 Market Street, Philadelphia, PA 19104. Product name: F4406-1 T&O SC Fungicide. Active ingredient: Fungicide—fluindapyr at 20.9% and flutriafol at 20.9%. Proposed use: Turf in home lawns, golf courses, in lawns and landscape areas around public, industrial, and commercial properties; athletic fields; commercial sod farms; ornamental plants in lawns and landscape areas around public, industrial, commercial and residential properties; container and field grown ornamentals; nurseries; ornamentals in greenhouses; interiorscapes; and other enclosed structures. Contact: RD.

8. File Symbol: 7969-UGU. Docket ID number: EPA-HQ-OPP-2019-0142. Applicant: BASF Corporation, 26 Davis Dr., Research Triangle Park, NC 27709. Product name: GMB151 Soybean. Active ingredient: Plant-incorporated protectant—Bacillus thuringiensis Cry14Ab-1 protein and the genetic material necessary for its production (vector pSZ8832) in GMB151 soybean at <0.016622%. Proposed use: Nematicide. Contact: BPPD.

Authority: 7 U.S.C. 136 et seq.

Dated: April 23, 2019.
Delores Barber,
Director, Information Technology and Resources Management Division, Office of Pesticide Programs.

[FR Doc. 2019-10502 Filed 5-20-19; 8:45 am]

BILLING CODE 6560-50-P